DEPARTMENT OF JUSTICE

Notice of Lodging of Final Modification of 1994 Consent Decree With ASARCO Under the Comprehensive Environmental Response, Compensation, and Liability Act

Notice is hereby given that on July 2, 2008, a Final Modification of 1994 Consent Decree with Asarco (“Final Consent Decree Modification”) in State of Colorado v. ASARCO Incorporated et al., Civil Action No. 86-cv-1675-WYD (consolidated with 83-cv-2388-WYD) was lodged with the United States District Court for the District of Colorado.

The United States and the State of Colorado previously entered into a consent decree with ASARCO Incorporated (now ASARCO, LLC) (“ASARCO”) concerning, among other things, ASARCO's performance of response actions at various Operable Units (“OUs”) of the California Gulch Superfund Site located in Lake County, Colorado (“Site”) including OUs 5, 7 and 9. That consent decree was approved and entered by the United States District Court for the District of Colorado on August 26, 1994 (the “1994 Decree”). The 1994 Decree was modified concerning OU 9, and approved and entered by the United States District Court for the District of Colorado on May 1, 2008.

The proposed Final Consent Decree Modification implements a settlement of the remainder of the claims concerning the Site filed by the Plaintiffs (as that term is defined in the Final Consent Decree Modification) in In re ASARCO LLC, et al., a bankruptcy case pending in the Southern District of Texas, Corpus Christi Division, Case No. 05-21207 (the “Bankruptcy Case”). In general, pursuant to the terms of the Final Consent Decree Modification, the United States, on behalf of the United States Environmental Protection Agency, shall have an allowed general unsecured claim in the Bankruptcy Case in the amount of $8,833,000 for past and future response costs. In addition, the United States, on behalf of the United States Department of the Interior, shall have an allowed general unsecured claim in the Bankruptcy Case in the amount of $5,000,000 for natural resource damages. Under the terms of the Final Consent Decree Modification, the State of Colorado shall have an allowed general unsecured claims in the amount of $467,000 for past and future response costs, and in the amount of $5,000,000 for natural resource damages. This Final Consent Decree Modification will resolve the Governments' claims against ASARCO with respect to the Site.

The Department of Justice will receive for a period of thirty (30) days from the date of this publication comments relating to the Final Consent Decree Modification. Comments should be addressed to the Assistant Attorney General, Environment and Natural Resources Division, and either e-mailed to pubcomment-ees.enrd@usdoj.gov or mailed to P.O. Box 7611, U.S. Department of Justice, Washington, DC 20044-7611, and should refer to United States v. Apache Energy and Minerals Company, D.J. Ref. 90-11-3-138.

The Final Consent Decree Modification may be examined at the Office of the United States Attorney for the District of Colorado, 1225 Seventeenth Street, Suite 700, Denver, CO 80202, and at U.S. EPA Region 8, Superfund Records Center, 1595 Wynkoop St., Denver, CO 80202-1129. During the public comment period, the Decree, may also be examined on the following Department of Justice Web site, http://www.usdoj.gov/enrd/Consent_Decrees.html. A copy of the Final Consent Decree Modification may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $9.00 payable to the U.S. Treasury or, if by e-mail or fax, forward a check in that amount to the Consent Decree Library at the stated address.

Robert E. Maher, Jr.,
Assistant Section Chief, Environmental Enforcement Section, Environment and Natural Resources Division.

[FR Doc. E8-15648 Filed 7-9-08; 8:45 am]

BILLING CODE 4410-CW-P